DEPARTMENT OF DEFENSE

Department of the Army; Corps of Engineers

Intent To Prepare a Real Estate Supplement/Third Supplemental Environmental Impact Statement (RES/SEIS) to the Final SEIS on Modified Water Deliveries to Everglades National Park, Tamiami Trail Feature, Miami-Dade County, FL, November 2005

AGENCY: Department of the Army, U.S. Army Corps of Engineers, DoD.

ACTION: Notice of intent.

SUMMARY: In November 2005, the Jacksonville District, U.S. Army Corps of Engineers (Corps) issued a Final 2nd Supplemental Environmental Impact Statement (SEIS) for the Tamiami Trail feature of the Modified Water Deliveries (MWD) project to Everglades National Park in Miami-Dade County, FL. That SEIS assumed that the National Park Service (NPS) would acquire the necessary real estate interests in seven privately-owned parcels of land adjacent to the south side of Tamiami Trail to avoid flooding impacts after the Tamiami Trail project was constructed and ecosystem restoration water flows were directed south into Everglades National Park. It is now concluded that the NPS will be unable to complete the acquisition of real estate rights in time to meet the overall schedule of the MWD project. The Corps now proposes to take over responsibility for the acquisition and address the related impacts in a supplement to the previous SEIS.

ADDRESSES: U.S. Army Corps of Engineers, Planning Division, Environmental Branch, P.O. Box 4970, Jacksonville, FL 32232-0019.

FOR FURTHER INFORMATION CONTACT: Ms. Barbara Cintron at (904) 232-1692 or e-mail at Barbara.b.cintron@usace.army.mil.

SUPPLEMENTARY INFORMATION: a. The proposed action will be the selected plan described in the November 2005 Revised General Reevaluation Report/SEIS with the additional action of securing the necessary real estate rights to the privately owned properties along Tamiami Trail consisting of Florida Power and Light Co., Radio One Communications, Coopertown Airboard Rides, Gator Park, Everglades Safari Park, and Lincoln Financial Media (formerly Jefferson Pilot). The 1989 Everglades National Park Protection and Expansion Act (Pub. L. 101-229) provided authority for NPS to acquire all of these properties to be included in the boundary of the Everglades National Park (ENP) except for the Airboat Association of Florida. The Airboat Association of Florida was specifically excluded from the boundary of the ENP map at the time Public Law 101-229 was enacted. Therefore, the proposed action will also include securing the real estate rights from the Airboat Association necessary to convey water flows south into ENP.

The NPS retains responsibility for reaching agreement with the Osceola Indian Village on flood protection measures for their facilities, and for providing NEPA coverage on that action.

b. Alternatives to be considered separately for each property involves some combination of structural modifications, acquisition of an occasional/perpetual flowage easement, or fee simple title acquisition (buy out).

c. A scoping letter will be used to invite comments on alternatives and issues from Federal, State, and local agencies, affected Indian tribes, and other interested private organizations and individuals. A scoping meeting is not anticipated.

d. A Public meeting will be held after release of the Draft RES/SEIS; the exact location, date, and times will be announced in a public notice and local newspapers.

e. DSEIS Preparation: The integrated RES, including a DSEIS, is expected to be available for public review in the third quarter of CY 2006.

Brenda S. Bowen,
Army Federal Register Liaison Officer.

[FR Doc. 06-4883 Filed 5-25-06; 8:45 am]

BILLING CODE 3710-AJ-M